DEPARTMENT OF LABOR

Employment and Training Administration

[TA-W-51,883]

Culp, Inc; Rossville Division, Chattanooga, TN; Notice of Termination of Investigation

Pursuant to section 221 of the Trade Act of 1974, as amended, an investigation was initiated on May 28, 2003, in response to a worker petition filed on behalf of workers at Culp Inc., Rossville Division, Chattanooga, Tennessee.

The petition is a copy of petition number TA-W-51,355. That petition resulted in a negative determination issued on April 28, 2003. Since this petition is a duplicate, further investigation would serve no purpose and the investigation is terminated.

Signed at Washington, DC this 5th day of August 2003.
Linda G. Poole,
Certifying Officer, Division of Trade Adjustment Assistance.

[FR Doc. 03-21020 Filed 8-15-03; 8:45 am]

BILLING CODE 4510-30-P